Title 3—

The President

Presidential Determination No. 2000-11 of February 1, 2000

Assistance Program for the Independent States of the Former Soviet Union

Memorandum for the Secretary of State

Pursuant to subsection 517(b) in title V of the Foreign Operations, Export Financing, and Related Programs Appropriations Act, 2000 (Public Law 106-113), I hereby determine that it is in the national security interest of the United States to make available funds appropriated under the heading “Assistance for the Independent States of the Former Soviet Union” in title II of that Act without regard to the restriction in that subsection.

You are directed to report this determination to the Congress and publish it in the Federal Register.

wj

THE WHITE HOUSE,

Washington, February 1, 2000.

[FR Doc. 00-3289

Filed 2-9-00; 8:45 am]

Billing code 4710-10-M